DEPARTMENT OF JUSTICE

Notice of Lodging of Consent Decree Under the Comprehensive Environmental Response, Compensation and Liability Act

Notice is hereby given that on December 10, 2003, a proposed Consent Decree in United States v. Ralph L. Lowe, et al., Civil Action No. H-91-830 was lodged with United States District Court for the Southern District of Texas.

In this action the United States sought all costs incurred by the United States for responding to releases or threatened releases of hazardous substances at the Dixie Oil Processors, Inc. Superfund Site near Friendswood in Harris County, Texas. The Consent Decree resolves the United States claim against Pharmacia Corporation (formerly known as Monsanto Company), the Dow Chemical Company, Merichem Company, Lyondell Chemical Company (as successor to ARCO Chemical Company), and Rohn and Haas Company for past response costs that have been incurred and for future response costs that will be incurred by the United States at the Site. These Defendants have agreed to pay $873,949.80.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Ralph L. Lowe, et al., D.J. Ref. 90-11-2-0323.

The Consent Decree may be examined at the Office of the United States Attorney, 910 Travis Street, Suite 1500, Houston, Texas and at U.S. EPA Region 6, 1445 Ross Avenue, Suite 1200, Dallas, Texas. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S.Treasury.

Thomas Mariani,
Assistant Chief, Environmental Enforcement Section, Environment and Natural Resources Division.

[FR Doc. 03-31153 Filed 12-17-03; 8:45 am]

BILLING CODE 4410-15-M